DEPARTMENT OF VETERANS AFFAIRS

Advisory Committee on Prosthetics and Special-Disabilities Programs; Notice of Meeting

The Department of Veterans Affairs (VA) gives notice under the Federal Advisory Committee Act, 5 U.S.C. App. 2, that a meeting of the Federal Advisory Committee on Prosthetics and Special-Disabilities Programs will be held on May 6-7, 2014, in Room 230 at 810 Vermont Avenue NW., Washington, DC. The meeting will convene at 8:30 a.m. on both days, and will adjourn at 4:30 p.m. on May 6 and at 12 noon on May 7, 2014. The meeting is open to the public.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On May 6, the Committee will receive briefings on Chiropractic Care, Prosthetics and Sensory Aids Service, Audiology and Speech Pathology, Blind Rehabilitation, and VA Procurement and Logistics. On May 7, the Committee will receive a briefing on Telemedicine.

No time will be allocated for receiving oral presentations from the public; however, members of the public may direct questions or submit written statements for review by the Committee in advance of the meeting to Mr. Larry N. Long, Designated Federal Officer, Veterans Health Administration, Patient Care Services, Rehabilitation and Prosthetic Services (10P4RR), VA, 810 Vermont Avenue NW., Washington, DC 20420, or by email at lonlar@va.gov. Because the meeting is being held in a government building, a photo I.D. must be presented at the Guard's Desk as a part of the clearance process. Therefore, you should allow an additional 15 minutes before the meeting begins. Any member of the public wishing to attend the meeting should contact Mr. Long at (202) 461-7354.

Dated: April 14, 2014.
Rebecca Schiller,
Committee Management Officer.

[FR Doc. 2014-08738 Filed 4-16-14; 8:45 am]

BILLING CODE 8320-01-P